COMMISSION ON CIVIL RIGHTS

Sunshine Act Meeting Notice

AGENCY: Commission on Civil Rights.

ACTION: Announcement of meeting.

DATES: Thursday, October 21, 2021, 12:00 p.m. ET.

ADDRESSES: Virtual Briefing via Commission https://www.youtube.com/user/USCCR/videos.

FOR FURTHER INFORMATION CONTACT: Angelia Rorison: 202-376-7700; publicaffairs@usccr.gov.

SUPPLEMENTARY INFORMATION: On Thursday, October 21, 2021, at 12 p.m. Eastern Time, the U.S. Commission on Civil Rights will hold a virtual briefing on the civil rights implications of the federal response and impact of Hurricane Harvey in Texas. At this virtual public briefing, the Commissioners will hear from subject matter experts such as government officials, volunteer organizations, non-governmental advocates, and academics. The Commission will accept written materials from the public for consideration as we prepare our report; submit to harveybriefing@usccr.gov no later than November 22, 2021.

This briefing is open to the public via livestream on the Commission's YouTube Page at https://www.youtube.com/user/USCCR/videos. (Streaming information subject to change.) Public participation is available for the event with view access, along with an audio option for listening. Written testimony and other materials can be found on the Commission'swww.usccr.gov.

Computer assisted real-time transcription (CART) will be provided. The web link to access CART (in English) on Thursday, October 21, 2021, is https://www.streamtext.net/player?event=USCCR. Please note that CART is text-only translation that occurs in real time during the meeting and is not an exact transcript.

To request additional accommodations, persons with disabilities should email access@usccr.gov by Monday, October 11, 2021, indicating “accommodations” in the subject line.

Agenda for Civil Rights Implications of Disaster Relief: Hurricane Harvey in Texas: 12:00 p.m.-2:55 p.m. All Times Eastern

I. Introductory Remarks by Chair Norma V. Cantú: 12:00-12:05 p.m.

II. Remarks by Commissioner Debo Adegbile and Michael Yaki: 12:06-12:10 p.m.

III. Panel 1: 12:11-1:25 p.m.

IV. Break: 1:25-1:35 p.m.

V. Panel 2: 1:35-2:50 p.m.

VI. Closing Remarks by Chair Norma V. Cantú: 2:50-2:55 p.m.

VI. Adjourn Meeting.

** Public Comments will be accepted through written testimony only.

* Schedule is subject to change.

Call for Public Comments

In addition to the testimony collected on Thursday, October 21, 2021, via virtual briefing, the Commission welcomes the submission of material for consideration as we prepare our report. Please submit such information to harveybriefing@usccr.gov no later than November 22, 2021, or by mail to OCRE/Public Comments, ATTN: Harvey Briefing, U.S. Commission on Civil Rights, 1331 Pennsylvania Ave. NW, Suite 1150, Washington, DC 20425. The Commission encourages the use of email to provide public comments due to the current COVID-19 pandemic.

Dated: October 5, 2021.
Angelia Rorison,
Media and Communications Director, U.S. Commission on Civil Rights.

[FR Doc. 2021-22063 Filed 10-5-21; 4:15 pm]

BILLING CODE 6335-01-P